DEPARTMENT OF HOMELAND SECURITY

Executive Order 13650 Improving Chemical Facility Safety and Security Listening Sessions; Correction and Update

AGENCY: National Protection and Programs Directorate, DHS.

ACTION: Notice; correction and update.

SUMMARY: The Department of Homeland Security published a document in the Federal Register on November 19, 2013 (78 FR 69433), concerning a series of public listening sessions and webinars to solicit comments and suggestions from stakeholders on issues pertaining to Improving Chemical Facility Safety and Security (Executive Order [EO] 13650). The document contained incorrect information regarding the submission of comments and did not include all of the public listening session locations for January 2014.

FOR FURTHER INFORMATION CONTACT: Kathryn Willcutts, at Kathryn.Willcutts@hq.dhs.gov, telephone (703) 235-4222.

Correction

In the Federal Register of November 19, 2013 (78 FR 69433), on page 69433, in the second column, correct the last ADDRESSES paragraph to read:

ADDRESSES: Written comments regarding EO 13650 should be sent to the attention of Kathryn Willcutts, (703) 235-4222, Kathryn.Willcutts@hq.dhs.gov. Comments must be identified by the docket number “DHS-2013-0075” and may be submitted by one of the following methods:

• Federal eRulemaking Portal: http://www.regulations.gov.

• Email: eo.chemical@hq.dhs.gov. Include the docket number in the subject line of the message.

• Mail: DHS/NPPD/IP/ISCD, 245 Murray Lane, Mail Stop 0610, Arlington, VA 20598-0610 Attn.: Kathryn Willcutts.

Instructions: All submissions received must have the words “Department of Homeland Security,” and the docket number for this action. All comments received will be posted without change to www.regulations.gov to exclude any personal information provided.

In the Federal Register of November 19, 2013 (78 FR 69433), on page 69434, in the first column, correct the “Request for Comments” paragraph to read:

Regardless of attendance at the public listening sessions and Webinars, interested persons may submit comments by the Federal eRulemaking Portal: http://www.regulations.gov, by email at eo.chemical@hq.dhs.gov or by mail at DHS/NPPD/IP/ISCD, 245 Murray Lane, Mail Stop 0610, Arlington, VA 20598-0610 Attn.: Kathryn Willcutts.

Update

In the Federal Register of November 19, 2013 (78 FR 69433), on page 69433, in the second column, update DATES to include:

DATES: The online registration site will include the start and end times for each session. Information regarding the currently scheduled, as well as future listening sessions will be posted on the EO Web site, https://www.osha.gov/chemicalexecutiveorder/index.html.

In the Federal Register of November 19, 2013 (78 FR 69433), on page 69433, in the second column, update ADDRESSES to include:

ADDRESSES: The EO Working Group is pleased to announce additional public listening sessions.

• January 8, 2014, The Zigguart Building, Auditorium, Room 1-301, 707 3rd Street, Sacramento, CA 95605;

• January 9, 2014, Mount St. Mary's College, Doheny Campus, 10 Chester Place, Los Angeles, CA 90007-2598;

• January 10, 2014, James West Alumni Center (JWAC), 325 Westwood Plaza, Los Angeles, CA 90095;

• January 14, 2014, GSA's ROB Auditorium, 301 7th Street SW., (7th and D Streets), Washington, DC 20407; and

• January 24, 2014, Harris County Department of Education Center for Safe and Secure Schools, 6300 Irvington Blvd., Houston, TX 77022.

Dated: January 10, 2014.
Caitlin Durkovich,
Assistant Secretary, Office of Infrastructure Protection.

[FR Doc. 2014-01076 Filed 1-21-14; 8:45 am]

BILLING CODE 9910-9P-P